ENVIRONMENTAL PROTECTION AGENCY

[OPP-42078A; FRL-6751-6]

South Dakota State Plan for Certification of Applicators of Restricted Use Pesticides; Notice of Approval

AGENCY: Environmental Protection Agency (EPA).

ACTION: Notice.

SUMMARY: In the Federal Register of July 14, 2000, EPA issued a notice of intent to approve an amended South Dakota Plan for the certification of applicators of restricted use pesticides. In this notice EPA solicited comments from the public on the proposed action to approve the amended South Dakota Plan. The amended Certification Plan South Dakota submitted to EPA permitted the use of M-44 Sodium Cyanide Devices by both commercial and private applicators to control coyotes (Canis latrans) that prey upon livestock and poultry. The amendment establishes new requirements for the training, certification, recertification, and recordkeeping of individuals that use M-44 Sodium Cyanide Devices. No comments were received and EPA hereby approves the amended South Dakota Plan.

ADDRESSES: The amended South Dakota Certification Plan can be reviewed at the locations listed under Unit I.B. of the SUPPLEMENTARY INFORMATION.

FOR FURTHER INFORMATION CONTACT: Ron Schiller, Environmental Protection Agency, Region VIII (8P-P3T), 999 18th St., Suite 300, Denver, CO 80202; telephone number: (303) 312-6017; e-mail address: schiller.ron@epa.gov.

SUPPLEMENTARY INFORMATION:

I. General Information

A. Does this Action Apply to Me?

This action is directed to the public in general. This action may, however, be of interest to those involved in agriculture and anyone involved with the distribution and application of pesticides for agricultural purposes. Others involved with pesticides in a non-agricultural setting may also be affected. In addition, it may be of interest to others, such as, those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of the Amended State Plan, Other Related Documents, and Additional Information?

To obtain copies of the amended South Dakota Certification Plan, other related documents, or additional information contact:

1. Ron Schiller at the address listed under FOR FURTHER INFORMATION CONTACT.

2. Tim Hagen, South Dakota Department of Agriculture, Division of Agricultural Services, Foss Bldg., 523 East Capitol, Pierre, SD 57501; telephone number: (605) 773-4432; e-mail address: Tim Hagen@state.sd.us

3. John MacDonald, Field and External Affairs Division (7506C), Office of Pesticide Programs, Environmental Protection Agency, 1200 Pennsylvania Ave., NW.; telephone number: (703) 305-7370; e-mail address: macdonald.john@epa.gov.

II. What Action is the Agency Taking?

EPA is approving the amended South Dakota Certification Plan. This approval is based upon the EPA review of the South Dakota Plan and finding it in compliance with FIFRA, 40 CFR part 171 and the specific M-44 Sodium Cyanide Device registration requirements. Further, there were no public comments submitted to the earlier Federal Register (65 FR 43750) (FRL-6550-6) notice soliciting comments. The amended South Dakota Certification Plan is therefore approved.

List of Subjects

Environmental protection, Pesticides and pests.

Dated: November 14, 2000.
William Yellowtail,
Regional Administrator, Region VIII.

[FR Doc. 00-29897 Filed 11-21-00 8:45 am]

BILLING CODE 6560-50-S